DEPARTMENT OF HEALTH AND HUMAN SERVICES

National Institutes of Health

National Institute on Aging; Amended Notice of Meeting

Notice is hereby given of a change in the meeting of the National Institute on Aging Special Emphasis Panel, October 17, 2013, 12:00 p.m. to October 17, 2013, 05:00 p.m., National Institute on Aging, Gateway Building, 7201 Wisconsin Avenue, Suite 2C212, Bethesda, MD 20892, which was published in the Federal Register on September 17, 2013, 78 FR 57167.

Meeting will be held on November 26, 2013 from 1:00 p.m. until 5:00 p.m. at the National Institute on Aging, 7201 Wisconsin Avenue, Suite 2C212, Bethesda, MD 20892. The meeting is closed to the public.

Dated: October 31, 2013.
Melanie J. Gray,
Program Analyst, Office of Federal Advisory Committee Policy.

[FR Doc. 2013-26441 Filed 11-4-13; 8:45 am]

BILLING CODE 4140-01-P